DEPARTMENT OF LABOR

Office of Labor-Management Standards

29 CFR Parts 403 and 408

RIN 1215-AB62

Labor Organization Annual Reports

AGENCY: Office of Labor-Management Standards, Employment Standards Administration, Department of Labor.

ACTION: Proposed rule; extension of comment period.

SUMMARY: This document extends the period for comments on the proposed rule published on April 21, 2009 (74 FR 18172). The proposed rule would rescind the regulations published on January 21, 2009 (74 FR 3677), which made several revisions to the current Form LM-2, which is used by the largest labor organizations to file their annual financial reports under the Labor-Management Reporting and Disclosure Act of 1959, as amended, and established a procedure by which the Secretary of Labor may revoke, under certain circumstances, a particular labor organization's authorization to file a simplified annual report, Form LM-3. The comment period, which was to expire on May 21, 2009, is extended to June 22, 2009.

DATES: Comments on the proposed rule published on April 21, 2009 (74 FR 18172) must be received on or before June 22, 2009.

ADDRESSES: You may submit comments, identified by RIN 1215-AB62, only by the following methods:

Internet—Federal eRulemaking Portal. Electronic comments may be submitted through http://www.regulations.gov. To locate the proposed rule, use key words such as “Labor-Management Standards” or “Labor Organization Annual Financial Reports” to search documents accepting comments. Follow the instructions for submitting comments. Please be advised that comments received will be posted without change to http://www.regulations.gov, including any personal information provided.

Delivery: Comments should be sent to: Denise M. Boucher, Director of the Office of Policy, Reports and Disclosure, Office of Labor-Management Standards, U.S. Department of Labor, 200 Constitution Avenue, NW., Room N-5609, Washington, DC 20210. Because of security precautions the Department continues to experience delays in U.S. mail delivery. You should take this into consideration when preparing to meet the deadline for submitting comments.

The Office of Labor-Management Standards (OLMS) recommends that you confirm receipt of your delivered comments by contacting (202) 693-0123 (this is not a toll-free number). Individuals with hearing impairments may call (800) 877-8339 (TTY/TDD). Only those comments submitted through http://www.regulations.gov, hand-delivered, or mailed will be accepted. Comments will be available for public inspection at http://www.regulations.gov and during normal business hours at the above address.

FOR FURTHER INFORMATION CONTACT: Denise M. Boucher, Director, Office of Policy, Reports and Disclosure, Office of Labor-Management Standards, Employment Standards Administration, U.S. Department of Labor, 200 Constitution Avenue, NW., Room N-5609, Washington, DC 20210, (202) 693-1185 (this is not a toll-free number), (800) 877-8339 (TTY/TDD).

SUPPLEMENTARY INFORMATION: In the Federal Register of April 21, 2009 (74 FR 18172), the Department published a notice of proposed rulemaking that would rescind the regulations published on January 21, 2009 (74 FR 3678). Interested persons were invited to submit comments on or before May 21, 2009, 30 days after the publication of the notice.

Public commenters have requested an extension of time to submit comments. The Department has decided to extend the comment period until June 22, 2009. An extension of this duration is appropriate because it will afford parties additional time to submit comments on the proposal without unduly delaying final action on the proposal. In the rulemaking that led to promulgation of the January 21 regulations, the Department provided an initial 45 day comment period (73 FR 27346) that was later extended 15 additional days after requests for an extension (73 FR 34913). The extension of the comment period for the April 21 notice of proposed rulemaking to June 22 adds 32 days to the initial 30 day comment period.

The proposed rule to rescind the regulations published on January 21, 2009 is available on the Web site maintained by OLMS at http://www.olms.dol.gov. Anyone who is unable to access this information on the Internet can obtain the information by contacting the Employment Standards Administration at 200 Constitution Avenue, NW., Room N-5609, Washington, DC 20210, at olms-public@dol.gov or at (202) 693-0123 (this is not a toll-free number). Individuals with hearing impairments may call 1-800-877-8339 (TTY/TDD).

Signed at Washington, DC, this 15th day of May 2009.
Shelby Hallmark,
Acting Assistant Secretary for Employment Standards.

Andrew Auerbach,
Deputy Director, Office of Labor-Management Standards.

[FR Doc. E9-11813 Filed 5-20-09; 8:45 am]

BILLING CODE 4510-CP-P